FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 16, 2024.

A. Federal Reserve Bank of Minneapolis (Stephanie Weber, Assistant Vice President) 90 Hennepin Avenue, Minneapolis, Minnesota 55480-0291. Comments can also be sent electronically to MA@mpls.frb.org:

1. Keith Markwardt, Buffalo, Minnesota, and Daniel Spiller, Minneapolis, Minnesota; to become co-trustees of the Ella Elizabeth Meyerson 2008 Irrevocable GST Trust dated December 22, 2008, Atwater, Minnesota, which is a member of the Meyerson Family Control Group, a group acting in concert, and thus acquire control of voting shares of Cattail Bancshares, Inc., Atwater, Minnesota, and thereby indirectly acquire control of voting shares of Harvest Bank, Kimball, Minnesota, and Citizens State Bank of Waverly (Incorporated), Waverly, Minnesota.

B. Federal Reserve Bank of Kansas City (Jeffrey Imgarten, Assistant Vice President) 1 Memorial Drive, Kansas City, Missouri, 64198-0001. Comments can also be sent electronically to KCApplicationComments@kc.frb.org:

1. The Kathleen Albers Irrevocable Grantor Trust dtd 11-20-2012 and the Kathleen Albers Citizens National Corporation Trust “S,” Jeffry Albers, individually and as co-trustee, and Matthew Albers and Holly Schroeder, as co-trustees, all of Wisner, Nebraska; to join the Albers Family Group, a group acting in concert, to retain voting shares of Citizens National Corporation and thereby indirectly retain voting shares of Citizens State Bank, both of Wisner, Nebraska. Jeffry Albers, Matthew Albers, and Holly Schroeder, all individually, were each previously permitted by the Federal Reserve System to acquire control of voting shares of Citizens National Corporation.

Board of Governors of the Federal Reserve System.
Erin Cayce,
Assistant Secretary of the Board.

[FR Doc. 2024-06854 Filed 3-29-24; 8:45 am]

BILLING CODE P